DEPARTMENT OF VETERANS AFFAIRS

VA National Academic Affiliations Council, Notice of Meeting

The Department of Veterans Affairs (VA) gives notice under the Federal Advisory Committee Act, 5 U.S.C. ch. 10, the VA National Academic Affiliations Council (NAAC) will meet via conference call on June 18, 2025, from 1 p.m. to 3 p.m. eastern standard time (EST). The meeting session will begin and end as follows:

Date | Time | Location | Open session
Wednesday, June 18, 2025 | 1 p.m. to 3 p.m. EST | Virtual | Yes.

The meeting is open to the public.

The purpose of the Council is to advise the Secretary, Department of Veterans Affairs, on matters affecting partnerships between VA and its academic affiliates.

On June 18, 2025, the Council will receive project updates and have discussions on actions affecting the educational mission of VA. The Council will receive oral public comments from 2:25 p.m. to 2:55 p.m. EST.

Interested persons may attend and present oral statements to the Council on June 18, 2025, during the public comment period. The designated public dial in is 872 701 0185. At the prompt, enter meeting ID 744 975 227#. Individuals who speak are invited to submit a 1- to 2-page summary of their comments at the time of the meeting for inclusion in the official meeting record. Oral presentations will be limited to five minutes or less, depending on the number of participants. Interested parties may also provide written comments for review by the Council prior to the meeting to Ms. Nellie Mitchell, Designated Federal Officer, or at any time via email to Nellie.Mitchell@va.gov. Any member of the public wishing to attend or seeking additional information should contact Ms. Mitchell via email or by phone at 608-358-9902.

Dated: May 19, 2025.
Jelessa M. Burney,
Federal Advisory Committee Management Officer.

[FR Doc. 2025-09193 Filed 5-21-25; 8:45 am]

BILLING CODE 8320-01-P